DEPARTMENT OF JUSTICE

Antitrust Division

Notice Pursuant to the National Cooperative Research and Production Act of 1993—Southwest Research Institute (“SwRI”): Cooperative Research Group on High Efficiency Dilute Gasoline Engine (HEDGE) (Formerly High Efficiency Durable Gasoline Engine)

Notice is hereby given that, on April 5, 2007, pursuant to Section 6(a) of the National Cooperative Research and Production Act of 1993, 15 U.S.C. 4301 et seq. (“the Act”), Southwest Research Institute (“SwRI”) has filed written notifications simultaneously with the Attorney General and the Federal Trade Commission disclosing changes in its membership and project name. The notifications were filed for the purpose of extending the Act's provisions limiting the recovery of antitrust plaintiffs to actual damages under specified circumstances. Specifically, DAYCO Fluid Technologies, Torino, ITALY, Duetz, AG, Koeln, GERMANY, Dynagen Technologies, Inc., Sydney, Nova Scotia, CANADA, NGK Spark Plug Co., Ltd., Nagoya, JAPAN have been added as parties to the venture. In addition, the name of this venture has been changed to High Efficiency Dilute Gasoline Engine (HEDGE).

No other changes have been made in either the membership or planned activity of the group research project. Membership in this group remains open, and SwRI intends to file additional written notifications disclosing all changes in membership.

On June 10, 2005, SwRI filed its original notification pursuant to Section 6(a) of the Act. The Department of Justice published a notice in the Federal Register pursuant to Section 6(b) of the Act on July 7, 2005 (70 FR 39339).

The last notification was filed with the Department on September 27, 2006. A notice was published in the Federal Register on November 22, 2006 (71 FR 67643).

Patricia A. Brink,
Deputy Director of Operations, Antitrust Division.

[FR Doc. 07-2230 Filed 5-4-07; 8:45 am]

BILLING CODE 4410-11-M